DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before August 29, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: July 25, 2011.
Darrin A. King,
Director, Information Collection Clearance Division, Privacy, Information and Records Management Services, Office of Management.

Institute of Education Sciences

Type of Review: New.

Title of Collection: National Evaluation of the Technical Assistance and Dissemination (TA&D) Program: Grantee Questionnaire/Interview and State Survey Data Collection.

OMB Control Number: Pending.

Agency Form Number(s): N/A.

Frequency of Responses: Once.

Affected Public: Not-for-profit institutions; State, Local or Tribal Government.

Total Estimated Number of Annual Responses: 1,035.

Total Estimated Annual Burden Hours: 1,028.

Abstract: This data collection will focus on gathering relevant information on the Technical Assistance and Dissemination (TA&D) Program from program grantees and from officials at State Education Agencies (SEAs) and Part C lead agencies. This data collection will include two activities. The first activity will be a TA&D Program Grantee Questionnaire/Interview, which will yield detailed descriptive information of TA&D Program grantees' activities concerning the topic areas addressed by TA&D Program grantees, the practices and outcomes in particular on which grantees are focused, as well as the technical assistance products and services provided by the TA&D Program grantees and to whom they provide them. The second activity will be a state survey, which will provide information concerning the needs that SEAs and Part C lead agencies have for technical assistance to support the implementation of the Individuals with Disabilities Education Act (IDEA) and support improvement of child outcomes, and the technical assistance services and products that have been accessed or received by selected staff at the state level from Office of Special Education Programs (OSEP) TA&D Program centers and their satisfaction with those services and products.

The data from these two activities will address the following research questions:

1. What technical assistance do state agencies (i.e., state educational agencies and Part C lead agencies) need to implement IDEA 2004 effectively and improve outcomes for children with disabilities?

2. To what extent do state agencies receive TA, in areas of need, to implement IDEA 2004 effectively and improve outcomes for children with disabilities?

3. What are the topic areas addressed by TA&D grantees and on which outcomes in particular are grantees focused?

4. What technical assistance products and services do TA&D program grantees provide?

5. What technical assistance products and services do state agencies receive in order to help meet their needs to implement IDEA 2004 effectively and improve outcomes for children with disabilities?

6. For focal topic areas, to what extent are state agencies satisfied with the products and services received from TA&D grantees?

This data collection will provide unique, detailed data and information that are not currently available from other sources but that are necessary in order to accurately understand the role that the TA&D Program plays in supporting state agencies in their implementation of IDEA. The National Evaluation of the TA&D Program is part of the National Assessment of the Individuals with Disabilities Education Improvement Act of 2004 (hereafter referred to as the National Assessment). Failure to collect these data may result in the Department of Education being unable to adequately report to Congress on the National Assessment.

Copies of the information collection submission for OMB review may be accessed from the RegInfo.gov Web site at http://www.reginfo.gov/public/do/PRAMain or from the Department's Web site at http://edicsweb.ed.gov, by selecting the “Browse Pending Collections” link and by clicking on link number 4615. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-19128 Filed 7-27-11; 8:45 am]

BILLING CODE 4000-01-P